DEPARTMENT OF HEALTH AND HUMAN SERVICES

National Institutes of Health

National Human Genome Research Institute; Amended Notice of Meeting

Notice is hereby given of a change in the meeting of the National Human Genome Research Institute Special Emphasis Panel, October 15, 2013, 01:00 p.m. to October 15, 2013, 02:30 p.m., National Human Genome Research Institute, 5635 Fishers Lane, Suite 3055, Rockville, MD 20852 which was published in the Federal Register on September 16, 2013, 78 FR 26905.

The October 15, 2013 meeting has been moved to December 5, 2013. The meeting is closed to the public.

Dated: October 31, 2013.
David Clary,
Program Analyst, Office of Federal Advisory Committee Policy.

[FR Doc. 2013-26540 Filed 11-5-13; 8:45 am]

BILLING CODE 4140-01-P